DEPARTMENT OF ENERGY

Federal Energy Regulatory Commission

Combined Notice of Filings

Take notice that the Commission has received the following Natural Gas Pipeline Rate and Refund Report filings:

Filings in Existing Proceedings

Docket Numbers: RP20-614-005; RP20-618-002.

Applicants: Transcontinental Gas Pipe Line Company, LLC.

Description: Motion of Transcontinental Gas Pipe Line Company, LLC to Amend Settlement.

Filed Date: 7/22/22.

Accession Number: 20220722-5104.

Comment Date: 5 p.m. ET 10/5/22.

Docket Numbers: RP22-1243-001.

Applicants: BBT AlaTenn, LLC.

Description: Tariff Amendment: BBT Ala-Tenn Amended NRA Filing to be effective 10/1/2022.

Filed Date: 9/27/22.

Accession Number: 20220927-5123.

Comment Date: 5 p.m. ET 10/11/22.

Any person desiring to protest in any the above proceedings must file in accordance with Rule 211 of the Commission's Regulations (18 CFR 385.211) on or before 5:00 p.m. Eastern time on the specified comment date.

Filings Instituting Proceedings

Docket Numbers: RP22-1242-000.

Applicants: Natural Gas Pipeline Company of America LLC.

Description: Compliance filing: Penalty Revenue Crediting Report from January through June 2022 to be effective N/A.

Filed Date: 9/23/22.

Accession Number: 20220923-5057.

Comment Date: 5 p.m. ET 10/5/22.

Docket Numbers: RP22-1243-000.

Applicants: BBT AlaTenn, LLC.

Description: § 4(d) Rate Filing: BBT Ala-Tenn NRA Filing to be effective 10/1/2022.

Filed Date: 9/26/22.

Accession Number: 20220926-5090.

Comment Date: 5 p.m. ET 10/11/22.

Docket Numbers: RP22-1245-000.

Applicants: Tennessee Gas Pipeline Company, L.L.C.

Description: § 4(d) Rate Filing: Pipeline Safety and Greenhouse Gas Cost Adjustment Mechanism—2022 to be effective. 11/1/2022.

Filed Date: 9/27/22.

Accession Number: 20220927-5024.

Comment Date: 5 p.m. ET 10/11/22.

Docket Numbers: RP22-1246-000.

Applicants: Tennessee Gas Pipeline Company, L.L.C.

Description: § 4(d) Rate Filing: Volume No. 2—Chesapeake Energy SP380182 & SP380185 to be effective 10/1/2022.

Filed Date: 9/27/22.

Accession Number: 20220927-5027.

Comment Date: 5 p.m. ET 10/11/22.

Docket Numbers: RP22-1247-000.

Applicants: Stagecoach Pipeline & Storage Company LLC.

Description: § 4(d) Rate Filing: Stagecoach Pipeline & Storage Company LLC —Chesapeake SP380186 and SP380187 to be effective 10/1/2022.

Filed Date: 9/27/22.

Accession Number: 20220927-5030.

Comment Date: 5 p.m. ET 10/11/22.

Docket Numbers: RP22-1248-000.

Applicants: Tuscarora Gas Transmission Company.

Description: Compliance filing: 2022 Fuel and Line Loss Report to be effective N/A.

Filed Date: 9/27/22.

Accession Number: 20220927-5038.

Comment Date: 5 p.m. ET 10/11/22.

Docket Numbers: RP22-1249-000.

Applicants: El Paso Natural Gas Company, L.L.C.

Description: § 4(d) Rate Filing: Negotiated Rate Agreement Update (APS Oct 2022) to be effective 10/1/2022.

Filed Date: 9/27/22.

Accession Number: 20220927-5048.

Comment Date: 5 p.m. ET 10/11/22.

Docket Numbers: RP22-1250-000.

Applicants: El Paso Natural Gas Company, L.L.C.

Description: § 4(d) Rate Filing: Non-Conforming Agreements Update (PNM) to be effective 11/1/2022.

Filed Date: 9/27/22.

Accession Number: 20220927-5051.

Comment Date: 5 p.m. ET 10/11/22.

Docket Numbers: RP22-1252-000.

Applicants: Ruby Pipeline, L.L.C.

Description: § 4(d) Rate Filing: Non-Conforming Amendments Filing (PG&E) to be effective 11/1/2022.

Filed Date: 9/27/22.

Accession Number: 20220927-5083.

Comment Date: 5 p.m. ET 10/11/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2022.
Debbie-Anne A. Reese,
Deputy Secretary.

[FR Doc. 2022-21471 Filed 10-3-22; 8:45 am]

BILLING CODE 6717-01-P